DEPARTMENT OF ENERGY

[FE Docket No. PP-230]

Application to Rescind Presidential Permit; Joint Application for Presidential Permit; Detroit Edison Company and International Transmission Company

AGENCY: Office of Fossil Energy, DOE.

ACTION: Notice of joint application.

SUMMARY: Detroit Edison and International Transmission jointly applied to rescind Presidential Permit PP-221 held by Detroit Edison and to issue a Presidential permit to International Transmission covering these same international transmission facilities. In addition, the Applicants are requesting expedited approval of their joint application.

DATES: Comments, protests, or requests to intervene must be submitted on or before September 21, 2000.

ADDRESSES: Comments, protests, or requests to intervene should be addressed as follows: Office of Coal & Power Import and Export (FE-27), Office of Fossil Energy, U.S. Department of Energy, 1000 Independence Avenue, SW., Washington, DC, 20585-0350.

FOR FURTHER INFORMATION CONTACT: Ellen Russell (Program Office) 202-586-9624 or Michael T. Skinker (Program Attorney) 202-586-2793.

SUPPLEMENTARY INFORMATION: The construction, operation, maintenance and connection of facilities at the international border of the United States for the transmission of electric energy between the United States and a foreign country is prohibited in the absence of a Presidential permit issued pursuant to Executive Order (EO) 10485, as amended by EO 12038. Existing Presidential permits are not transferable or assignable. However, in the event of a proposed voluntary transfer of facilities, in accordance with the regulations at 10 CFR 205.323, the existing permit holder and the transferee are required to file a joint application with DOE that includes a statement of reasons for the transfer.

On August 21, 2000, The Detroit Edison Company (Detroit Edison) and International Transmission Company (International Transmission) (collectively the “Applicants”) jointly filed an application with the Office of Fossil Energy (FE) of the Department of Energy (DOE) for a transfer from Detroit Edison to International Transmission of the facilities authorized by Presidential Permit PP-221. These facilities include:

(a) One 230,000-volt (230-kV) transmission line connecting Detroit Edison's Bunce Creek Station, located in Marysville, Michigan, with Ontario Hydro's Scott Transformer Station located in Sarnia, Ontario (previously identified by Detroit Edison as the B3N facility).

(b) One 230-kV transmission line connecting Detroit Edison's Waterman Station, located in Detroit, Michigan, with Ontario Hydro's J. Clark Keith Generating Station, located in Windsor, Ontario (previously identified by Detroit Edison as the J5D facility).

(c) One 345-kV transmission line connecting Detroit Edison's St. Clair Generating Station, located in East China Township, Michigan, with Ontario Hydro's Lambton Generating Station, located in Moore Township, Ontario (previously identified by Detroit Edison as the L4D facility).

(d) One 230-kV transmission line connecting Detroit Edison's St. Clair Generating Station, located in East China Township, Michigan, with Ontario Hydro's Lambton Generating Station, located in Moore Township, Ontario (previously identified by Detroit Edison as the L51D facility).

The proposed transfer of these facilities is occasioned by a planned corporate restructuring by DTE Energy Company (DTE Energy); the Applicants are each wholly owned subsidiaries of DTE Energy. On June 29, 2000, in an Order issued by the Federal Energy Regulatory Commission (FERC) in Docket No. EC00-86-000, DTE Energy and the Applicants were authorized to engage in a series of intra-corporate transactions. One result of these transactions is the transfer from Detroit Edison to International Transmission of ownership, operation, and control of its integrated high-voltage transmission facilities, including international transmission lines previously authorized to Detroit Edison by DOE in Presidential Permit PP-221. The PP-221 facilities connect the Detroit Edison system with the system of Hydro One Networks, Inc. (Hydro One, formerly Ontario Hydro).

On December 8, 1998, Detroit Edison applied to DOE to amend certain existing Presidential permits by changing the manner in which the international facilities are operated. In that related proceeding (FE Docket PP-221) Detroit Edison proposed installing a voltage-regulating autotransformer on the L51D facility and a phase-shifting transformer on the B3N facility. On April 27, 2000, in Order PP-221, DOE authorized Detroit Edison to place in service the autotransformer on the L51D facility, but put off authorizing the requested change to the B3N facility until after submission and evaluation by DOE of additional regional coordination studies. These studies have not yet been submitted to DOE for review. Therefore, if DOE authorizes the transfer of Detroit Edison's international facilities to International Transmission, any subsequent changes to the B3N facilities that DOE may authorize would occur in Docket PP-230. DOE will consider interveners or parties in the PP-221 proceeding to be interveners or parties in the continuation of this proceeding.

Since restructuring of the electric power industry began, resulting in the introduction of different types of competitive entities into the marketplace, DOE has consistently expressed its policy that cross-border trade in electric energy should be subject to the same principles of comparable open access and non-discrimination that apply to transmission in interstate commerce. DOE has stated that policy in export authorizations granted to entities requesting authority to export over international transmission facilities. Specifically, DOE expects transmitting utilities owning border facilities to provide access across the border in accordance with the principles of comparable open access and non-discrimination contained in the FPA and articulated in Federal Energy Regulatory Commission Order No. 888 (Promotion Wholesale Competition Through Open Access Non-Discriminatory Transmission Services by Public utilities; FERC Stats. & Regs. ¶31,036 (1996)), as amended. In furtherance of this policy, on July 27, 1999, (64 FR 40586) DOE initiated a proceeding in which it noticed its intention to condition existing and future Presidential permits, appropriate for third party transmission, on compliance with a requirement to provide non-discriminatory open access transmission service. That proceeding is not yet complete. However, in this docket DOE specifically requests comment on the appropriateness of applying the open access requirement on facilities proposed to be transferred to International Transmission.

Procedural Matters

Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Additional copies of such petitions to intervene or protests also should be filed directly with: Raymond O. Sturdy, Jr., The Detroit Edison Company, 2000 Second Avenue—688 WCB, Detroit, Michigan 48226-1279 and Messrs. John D. McGrane and Michael C. Griffen, Morgan, Lewis & Bochius LLP, 1800 M Street, NW, Washington, DC 20036.

Before a Presidential permit or electricity export authorization may be issued or amended, the DOE must determine that the proposed action will not adversely impact on the reliability of the U.S. electric power supply system. In addition, DOE must consider the environmental impacts of the proposed actions pursuant to the National Environmental Policy Act of 1969. DOE also must obtain the concurrence of the Secretary of State and the Secretary of Defense before taking final action on a Presidential permit application.

Copies of these applications will be made available, upon request, for public inspection and copying at the address provided above. In addition, the application may be reviewed or downloaded from the Fossil Energy Home Page at: http://www.fe.doe.gov. Upon reaching the Fossil Energy Home page, select “Electricity” from the options menu, and then “Pending Proceedings.”

Issued in Washington, D.C., on August 31, 2000.
Ellen Russell,
Acting Deputy Director, Electric Power Regulation, Office of Coal & Power Im/Ex, Office of Fossil Energy.

[FR Doc. 00-22790 Filed 9-5-00; 8:45 am]

BILLING CODE 6450-01-M